DEPARTMENT OF TRANSPORTATION

Federal Transit Administration

[FTA Docket No. FTA-2009-0022]

Notice of Request for the Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to extend the following currently approved information collection: Transit Investments in Greenhouse Gas and Energy Reduction Program.

DATES: Comments must be submitted before June 26, 2009.

ADDRESSES: To ensure that your comments are not entered more than once into the docket, submit comments identified by the docket number by only one of the following methods:

1. Web site: http://www.regulations.gov. Follow the instructions for submitting comments on the U.S. Government electronic docket site. (Note: The U.S. Department of Transportation's (DOT's) electronic docket is no longer accepting electronic comments.) All electronic submissions must be made to the U.S. Government electronic docket site at http://www.regulations.gov. Commenters should follow the directions below for mailed and hand-delivered comments.

2. Fax: 202-366-7951.

3. Mail: U.S. Department of Transportation, 1200 New Jersey Avenue, SE., Docket Operations, M-30, West Building, Ground Floor, Room W12-140, Washington, DC 20590-0001.

4. Hand Delivery: U.S. Department of Transportation, 1200 New Jersey Avenue, SE., Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to Internet users, without change, to http://www.regulations.gov. You may review DOT's complete Privacy Act Statement in the Federal Register published April 11, 2000, (65 FR 19477), or you may visit http://www.regulations.gov. Docket: For access to the docket to read background documents and comments received, go to http://www.regulations.gov at any time. Background documents and comments received may also be viewed at the U.S. Department of Transportation, 1200 New Jersey Avenue, SE., Docket Operations, M-30, West Building, Ground Floor, Room W12-140, Washington, DC 20590-0001 between 9 a.m. and 5 p.m., Monday through Friday, except Federal holidays.

FOR FURTHER INFORMATION CONTACT:

Mr. Walter Kulyk, Office of Research, Demonstration and Innovation, (202) 366-4995, or e-mail at: Walter.Kulyk@dot.gov

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Transit Investments in Greenhouse Gas and Energy Reduction Program (OMB Number: 2132-0566).

Background: The American Recovery and Reinvestment Act of 2009 (ARRA) established the Transit Investments in Greenhouse Gas and Energy Reduction (TIGGER) Program. This program is a new $100,000,000 discretionary grant program to support public transit agencies in making capital investments that will assist in reducing the energy consumption or greenhouse gas emissions of their public transportation systems.

The information collected is submitted as part of the application for grants used to determine eligibility of applicants and project selection. Collection of project management information also provides documentation that the applicants and recipients are meeting program objectives and are complying with FTA Circular 5010.1D Grant Management Requirements and other Federal requirements.

To meet the requirements of the American Recovery and Reinvestment Act, FTA requested an emergency approval from OMB for the Transit Investments in Greenhouse Gas and Energy Reduction Program. OMB approved FTA's emergency request for approval on March 10, 2009. The OMB Control Number is 2132-0566. FTA published a Federal Register notice for Solicitation of Comments and Notice of Availability of Fiscal Year 2009 Funding for Transit Investments in Greenhouse Gas and Energy Reduction Grants on March 24, 2009.

Respondents: State and local government agencies.

Estimated Annual Burden on Respondents: Approximately 89 hours for each of the 360 respondents.

Estimated Total Annual Burden: 32,080 hours.

Frequency: Annual.

Issued April 21, 2009.
Ann M. Linnertz,
Associate Administrator for Administration.

[FR Doc. E9-9469 Filed 4-24-09; 8:45 am]

BILLING CODE 4910-57-P